DEPARTMENT OF ENERGY

Federal Energy Regulatory Commission

Combined Notice of Filings #1

April 13, 2007.

Take notice that the Commission received the following electric corporate filings:

Docket Numbers: EC07-77-000.

Applicants: Progress Ventures, Inc.; Constellation Energy Commodities Group, Inc.

Description: Progress Ventures Inc. and Constellation Energy submit an Application for approval of the disposition of jurisdictional facilities.

Filed Date: 04/05/2007.

Accession Number: 20070411-0071.

Comment Date: 5 p.m. Eastern Time on Thursday, April 26, 2007.

Docket Numbers: EC07-78-000.

Applicants: Blue Canyon Windpower, LLC; Blue Canyon Windpower II LLC; Flat Rock Windpower LLC; Flat Rock Windpower II LLC; High Prairie Wind Farm II, LLC; High Trail Wind Farm, LLC; Old Trail Wind Farm, LLC; Telocaset Wind Power Partners, LLC; GS Wind Holdings, LLC; EDP-Energias De Portugal, S.A.

Description: Wind Project Companies et al submit their joint application for authorization for disposition of jurisdictional facilities and on 4/12/07 amended their filing.

Filed Date: 04/10/2007; 04/10/07.

Accession Number: 20070412-0176.

Comment Date: 5 p.m. Eastern Time on Tuesday, May 1, 2007.

Take notice that the Commission received the following electric rate filings:

Docket Numbers: ER01-1699-006.

Applicants: Pilot Power Group, Inc.

Description: Pilot Power Group, Inc submits its updated market analysis in compliance with the Commission's letter order issued 4/30/01.

Filed Date: 04/11/2007.

Accession Number: 20070412-0089.

Comment Date: 5 p.m. Eastern Time on Wednesday, May 2, 2007.

Docket Numbers: ER03-879-005; ER03-880-005; ER03-882-005.

Applicants: D.E. Shaw Plasma Power, L.L.C.; D.E. Shaw Plasma Trading, L.L.C.; D. E. Shaw & Co. Energy, L.L.C.

Description: D.E. Shaw Plasma Power, L.L.C., et al. submit a Notice of Non-Material Change in Status.

Filed Date: 04/11/2007.

Accession Number: 20070411-5104.

Comment Date: 5 p.m. Eastern Time on Wednesday, May 2, 2007.

Docket Numbers: ER03-985-002.

Applicants: El Cap II, LLC.

Description: El Cap II, LLC re-submits revisions to their 4/2/07 filing of Substitute First Revised Sheet 1 to FERC Electric Rate Schedule 1.

Filed Date: 04/09/2007.

Accession Number: 20070412-0075.

Comment Date: 5 p.m. Eastern Time on Monday, April 30, 2007.

Docket Numbers: ER06-1349-001.

Applicants: Southwest Power Pool, Inc.

Description: Southwest Power Pool, Inc re-submits the revised and re-executed Service Agreements as an amendment to the 8/9/06 filing for Firm Point-to Point Transmission Service with Kansas Municipal Energy Agency.

Filed Date: 04/05/2007.

Accession Number: 20070411-0069.

Comment Date: 5 p.m. Eastern Time on Thursday, April 26, 2007.

Docket Numbers: ER06-1367-002; ER07-239-001; ER99-1714-005.

Applicants: BG Dighton Power, LLC; BG Energy Merchants, LLC; Lake Road Generating Company, L.P.

Description: BG Dighton Power, LLC, BG Energy Merchants, LLC & Lake Road Generating, LP submit notification of change in status to inform the Commission of a non-material departure from the characteristics relied upon.

Filed Date: 04/10/2007.

Accession Number: 20070412-0101.

Comment Date: 5 p.m. Eastern Time on Tuesday, May 1, 2007.

Docket Numbers: ER06-706-002.

Applicants: Entergy Services, Inc.

Description: Entergy Arkansas, Inc submits report of refunds pursuant to FERC's 3/16/07 Letter Order.

Filed Date: 04/10/2007.

Accession Number: 20070412-0098.

Comment Date: 5 p.m. Eastern Time on Tuesday, May 1, 2007.

Docket Numbers: ER07-219-001.

Applicants: ISO New England Inc.

Description: ISO New England, Inc. submit its report on requests for cost-based reliability agreements that have been received in anticipation of the elimination of the Peaking Unit Safe Harbor mechanism pursuant to FERC's 1/12/07 Order.

Filed Date: 04/10/2007.

Accession Number: 20070412-0100.

Comment Date: 5 p.m. Eastern Time on Tuesday, May 1, 2007.

Docket Numbers: ER07-361-002.

Applicants: Central Illinois Light Company; Central Illinois Public Service Company; Illinois Power Company.

Description: Central Illinois Light Company dba AmerenCILCO et al submits an explanation in response to FERC's 3/12/07 letter seeking additional information about the reconfiguration of the Balancing Authorities.

Filed Date: 04/10/2007.

Accession Number: 20070412-0088.

Comment Date: 5 p.m. Eastern Time on Tuesday, May 1, 2007.

Docket Numbers: ER07-732-000.

Applicants: Lake Road Generating Company, L.P.

Description: Lake Road Generating Company, LP submits an Amendment to its market-based rate schedule, FERC Electric Tariff 1.

Filed Date: 04/10/2007.

Accession Number: 20070412-0086.

Comment Date: 5 p.m. Eastern Time on Tuesday, May 1, 2007.

Docket Numbers: ER07-734-000.

Applicants: Southwest Power Pool, Inc.

Description: Southwest Power Pool, Inc submits an executed Meter Agent Services Agreement with Kansas Electric Power Cooperative et al.

Filed Date: 04/10/2007.

Accession Number: 20070412-0097.

Comment Date: 5 p.m. Eastern Time on Tuesday, May 1, 2007.

Docket Numbers: ER07-735-000.

Applicants: Exel Power Sources, LLC.

Description: Exel Power Sources, LLC submits a Petition for acceptance of Initial Tariff, Waivers and Blanket Authority and request for acceptance of FERC Electric Tariff, Original Volume 1 etc.

Filed Date: 04/10/2007.

Accession Number: 20070412-0087.

Comment Date: 5 p.m. Eastern Time on Tuesday, May 1, 2007.

Take notice that the Commission received the following public utility holding company filings:

Docket Numbers: PH07-10-000.

Applicants: Goldman Sachs Group, Inc.

Description: FERC Form 65 A Exemption Notification of The Goldman Sachs Group, Inc.

Filed Date: 04/11/2007.

Accession Number: 20070411-5060.

Comment Date: 5 p.m. Eastern Time on Wednesday, May 2, 2007.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov. or call (866) 208-3676 (toll free). For TTY, call (202) 502-8659.

Kimberly D. Bose,
Secretary.

[FR Doc. E7-7607 Filed 4-20-07; 8:45 am]

BILLING CODE 6717-01-P